DEPARTMENT OF ENERGY

Federal Energy Regulatory Commission

[Docket No. AD12-10-000]

Reactive Power Resources; Notice of Technical Conference

The Federal Energy Regulatory Commission (Commission) in a recent order on a California Independent System Operator Corporation (CAISO) tariff filing pertaining to interconnection requirements stated that the CAISO's filing in this docket highlights potential issues regarding the need for reactive power capability among newly interconnecting asynchronous generators and raises questions concerning the need and efficacy of continuing the process established for wind resources under Order No. 661-A.¹ The order directed that Staff commence a technical conference to examine whether the Commission should reconsider or modify the reactive power provisions of Order No. 661-A. The order stated that, as part of that technical conference, Staff should examine what evidence could be developed under Order No. 661 to support a request to apply reactive power requirements more broadly than to individual wind generators during the interconnection study process.²

¹ Interconnection for Wind Energy, Order No. 661, FERC Stats. & Regs. ¶ 31,186, order on reh'g, Order No. 661-A, FERC Stats. & Regs. ¶ 31,198 (2005).

² California Independent System Operator Corporation, 137 FERC ¶ 61,143 (2011).

Take notice that such conference will be held on April 17, 2012 at the Commission's headquarters at 888 First Street NE., Washington, DC 20426, beginning at 9 a.m. (Eastern Time) in the Commission Meeting Room. The technical conference will be led by Commission staff.

At the conference, discussion items will include: the technical and economic characteristics of different types of reactive power resources, including synchronous and asynchronous generation resources, transmission resources and energy storage resources; the design options for and cost of installing reactive power equipment at the time of interconnection as well as retrofitting a resource with reactive power equipment; other means by which reactive power is currently secured such as through self-supply; and how a technology that is capable of providing reactive power but may not be subject to the generation interconnection process (e.g., FACTs) would be analyzed. The staff is further interested in gathering information on methods used to determine the reactive power requirements for a transmission system and how system impact and system planning studies take into account changes in technologies connected to the system.

Those interested in speaking at the conference should notify the Commission by close of business March 9, 2012 by completing an online form identifying from the above listed topics those that they wish to address: https://www.ferc.gov/whats-new/registration/reactive-power-4-17-12-speaker-form.asp. Due to time constraints, we may not be able to accommodate all those interested in speaking. The Commission will issue a subsequent notice that will provide the detailed agenda, including panel speakers.

Advance registration is not required, but is encouraged. You may register at the following Web page: https://www.ferc.gov/whats-new/registration/reactive-power-4-17-12-form.asp.

The conference will be transcribed and available by webcast. Transcripts will be available immediately for a fee from Ace Reporting Company (202-347-3700 or 1-800-336-6646). A free webcast of the technical conference in this proceeding is also available. Anyone with Internet access interested in viewing this conference can do so by navigating to the FERC Calendar of Events at www.ferc.gov and locating this event in the Calendar. The event will contain a link to its webcast. The Capitol Connection provides technical support for the webcasts and offers the option of listening to the conferences via phone-bridge for a fee. If you have any questions, visit www.CapitolConnection.org or call (703) 993-3100.

FERC conferences are accessible under section 508 of the Rehabilitation Act of 1973. For accessibility accommodations please send an email to accessibility@ferc.gov or call toll free 1-866-208-3372 (voice) or 202-208-8659 (TTY); or send a fax to 202-208-2106 with the required accommodations.

For more information on this conference, please contact Mary Cain at mary.cain@ferc.gov or (202) 502-6337, or Sarah McKinley at sarah.mckinley@ferc.gov or (202) 502-8004.

Dated: February 17, 2012.
Nathaniel J. Davis, Sr.,
Deputy Secretary.

[FR Doc. 2012-4302 Filed 2-23-12; 8:45 am]

BILLING CODE 6717-01-P